DEPARTMENT OF THE INTERIOR

Bureau of Ocean Energy Management

[Docket No. BOEM-2024-0046]

Notice of Availability of a Joint Record of Decision for US Wind Inc.'s Proposed Maryland Offshore Wind Project

AGENCY: Bureau of Ocean Energy Management, Interior; National Marine Fisheries Service, National Oceanic and Atmospheric Administration, Commerce.

ACTION: Record of decision; notice of availability.

SUMMARY: The Bureau of Ocean Energy Management (BOEM) announces the availability of the joint record of decision (ROD) on the final environmental impact statement (EIS) for the construction and operations plan (COP) submitted by US Wind Inc. (US Wind) for its proposed Maryland Offshore Wind Project (Project). The joint ROD includes the Department of the Interior's (DOI) decision regarding the COP and National Marine Fisheries Service's (NMFS) decision, pending completion of all statutory processes, regarding US Wind's requested Incidental Take Regulations (ITR) and an associated Letter of Authorization (LOA) under the Marine Mammal Protection Act (MMPA). NMFS has adopted the final EIS to support its decision about whether to promulgate the requested ITR and issue a LOA to US Wind under the MMPA. The joint ROD concludes the National Environmental Policy Act process for each agency.

ADDRESSES: The joint ROD and associated information are available on BOEM's website at https://www.boem.gov/renewable-energy/state-activities/maryland-offshore-wind.

FOR FURTHER INFORMATION CONTACT: For information related to BOEM's action, please contact Lorena Edenfield, BOEM Office of Renewable Energy Programs, 45600 Woodland Road, VAM-OREP, Sterling, Virginia 20166, (907) 231-7679, or lorena.edenfield@boem.gov. For information related to NMFS' action, contact Katherine Renshaw, National Oceanic and Atmospheric Administration (NOAA) Office of General Counsel, (302) 515-0324, noaa.nepa@noaa.gov.

SUPPLEMENTARY INFORMATION: US Wind seeks approval to construct, operate, and maintain a wind energy facility and the associated export cables on the Outer Continental Shelf (OCS) offshore Maryland. The Project would be developed within the range of design parameters outlined in the Maryland Offshore Wind COP, subject to the applicable mitigation measures.

A notice of availability for the final EIS was published in the Federal Register on August 2, 2024. On August 22, 2024, BOEM published an errata on its website that included certain edits to chapter 2, chapter 3, and appendix G. None of these edits are substantive or affect the analysis or conclusions in the final EIS.

The Project (full build-out) as proposed in the COP would include up to 121 wind turbine generators (WTGs), 1 meteorological tower, up to 4 offshore substations, and up to 4 offshore export cables, distributed across the lease area (OCS-A 0490). The lease area is located 10.1 statute miles (16.2 kilometers) off the coast of Maryland. The onshore components of the Project would include a cable landfall area in Sussex County, Delaware. From the landfall, onshore cables would continue along an inshore cable export route in Indian River Bay to connect to onshore substations adjacent to the point of interconnection in Millsboro, Delaware.

After carefully considering public comments on the draft EIS and the alternatives described and analyzed in the final EIS, DOI selected Alternative B, “Proposed Action”. Alternative B reduces the total number of WTGs from 121 to 114. Development of the wind energy facility would occur within the range of design parameters outlined in the COP, subject to applicable mitigation measures. The anticipated mitigation, monitoring, and reporting requirements, which will be included in BOEM's COP approval as terms and conditions, are included in the ROD, which is available at https://www.boem.gov/renewable-energy/state-activities/maryland-offshore-wind.

NMFS has adopted BOEM's final EIS to support its decision about whether to promulgate the requested ITR and issue the associated LOA to US Wind. NMFS' final decision will be documented in a separate Decision Memorandum prepared in accordance with internal NMFS policy and procedures. The final ITR and a notice of issuance of the LOA, if issued, will be published in the Federal Register. The LOA would authorize US Wind to take small numbers of marine mammals incidental to Project construction and would set forth permissible methods of incidental taking; means of affecting the least practicable adverse impact on the species and their habitat; and requirements for monitoring and reporting. Pursuant to Section 7 of the Endangered Species Act (ESA), NMFS issued a final Biological Opinion to BOEM on June 18, 2024, evaluating the effects of the proposed action on ESA-listed species. The proposed action in the Biological Opinion includes the associated permits, approvals, and authorizations that may be issued.

The US Army Corps of Engineers plans to adopt the final EIS to support its decision whether to issue a Department of the Army permit under sections 10 and 14 of the Rivers and Harbors Act of 1899, section 404 of the Clean Water Act, and section 103 of the Marine Protection, Research, and Sanctuaries Act at a later date under an independent ROD.

Authority: National Environmental Policy Act of 1969, as amended, (42 U.S.C. 4321 et seq.); 40 CFR 1505.2.

Karen Baker,
Chief, Office of Renewable Energy Programs, Bureau of Ocean Energy Management.

[FR Doc. 2024-20242 Filed 9-6-24; 8:45 am]

BILLING CODE 4340-98-P